FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012105.

Title: SCM Lines Transportes/CCNI Agreement.

Parties: Compania Chilena de Navegacion Interoceanica S.A. and SCM Lines Transportes Maritimos Sociedade Unipessoal, LDA.

Filing Party: John P. Vayda, Esq.; Nourse & Bowles, LLP; One Exchange Plaza; 55 Broadway; New York, NY 10006-3030.

Synopsis: The agreement would authorize the parties to cross-charter space; to pool revenues, expenses, earnings, and/or losses; and to discuss on a voluntary, non-binding basis, rates and changes in the trade between the U.S. Gulf ports and ports of East Coast of South America.

By Order of the Federal Maritime Commission.
Dated: July 16, 2010.
Karen V. Gregory,
Secretary.

[FR Doc. 2010-17783 Filed 7-20-10; 8:45 am]

BILLING CODE P